DEPARTMENT OF HEALTH AND HUMAN SERVICES

National Institutes of Health

National Institute of Neurological Disorders and Stroke; Amended Notice of Meeting

Notice is hereby given of a change in the meeting of the Board of Scientific Counselors, National Institute of Neurological Disorders and Stroke, November 22, 2020, 06:00 p.m. to November 24, 2020, 12:00 p.m., National Institutes of Health, Bethesda, MD 20814, which was published in the Federal Register on December 18, 2019, 84FR69383.

This notice is being amended to announce that the meeting is cancelled. The meeting is closed to the public.

Dated: July 21, 2020.
Tyeshia M. Roberson,
Program Analyst, Office of Federal Advisory Committee Policy.

[FR Doc. 2020-16182 Filed 7-24-20; 8:45 am]

BILLING CODE 4140-01-P